TENNESSEE VALLEY AUTHORITY

Notice of Sunshine Act Meeting

August 20, 2010.

Meeting No. 10-04

The TVA Board of Directors will hold a public meeting on August 20, 2010, at the TVA West Tower Auditorium, 400 West Summit Hill Drive, Knoxville, Tennessee 37902 to consider the matters listed below. The public may comment on any agenda item or subject at a public listening session which begins at 8:30 a.m. EDT. Immediately following the end of the public listening session, the meeting will be called to order to consider the agenda items listed below.

Please Note: Speakers must pre-register online at TVA.gov or sign in before the meeting begins at 8:30 a.m. on the day of the meeting. The Board will answer questions from the news media following the Board meeting.

STATUS: Open.

Agenda

Old Business

Approval of minutes of June 10, 2010, Board Meeting.

New Business

1. Welcome.

2. President's Report.

3. Chairman's Report.

A. Approval of TVA Board Committee Charters.

B. Vision and Strategic Direction.

4. Report of the Finance, Rates, and Portfolio Committee.

A. Fiscal Year 2011 Budget, including (i) limited funding relating to Bellefonte Nuclear Plant Unit 1, (ii) contract with Texas Gas Transmission, LLC, for gas transportation; and (iii) contract with GE Hitachi Global Laser Enrichment LLC for uranium enrichment services.

B. Fiscal Year 2011 Financial Bond Issuance Authority.

C. Rate actions, including (i) Rate Structure Change, (ii) related Rate Adjustment to revise the Fuel Cost Adjustment formula, and (iii) related Pilot Rates.

D. Ash and Gypsum Facility Contracts, including (i) engineering services contracts with Stantec Consulting Services, Inc., URS Corporation, CDM Federal Services, Inc., Geosyntec Consultants, Inc., and AECOM USA, Inc., and (ii) handling and project services contracts with Charah, Inc., Charleston Construction Company, Inc., Morgan Corporation, and Trans Ash, Inc.

5. Report of the People and Performance Committee.

A. FY 2011 Annual Incentive Measures and Goals.

6. Report of the Audit, Risk, and Regulation Committee.

A. Enterprise Risk Management Policy.

7. Report of the Customer and External Relations Committee.

A. Chickamauga Marina—Commercial Recreation Lease with Erwin Marine Sales, Inc.

B. Fort Loudon Marina—Commercial Recreation Easement with Fort Loudon Marina, LLC.

FOR MORE INFORMATION: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: August 13, 2010.
Ralph E. Rodgers,
Acting General Counsel and Secretary.

[FR Doc. 2010-20551 Filed 8-16-10; 11:15 am]

BILLING CODE 8120-08-P